DEPARTMENT OF THE INTERIOR

Bureau of Reclamation

Agency Information Collection Activities Under OMB Review; Renewal of a Currently Approved Collection

AGENCY: Bureau of Reclamation, Interior.

ACTION: Notice and request for comments.

SUMMARY: The Bureau of Reclamation has forwarded the following Information Collection Request to the Office of Management and Budget (OMB) for review and approval: Bureau of Reclamation Use Authorization Application (Form 7-2540), OMB Control Number: 1006-0003. The Information Collection Request describes the nature of the information collection and its expected cost burden.

DATES: OMB has up to 60 days to approve or disapprove this information collection, but may respond after 30 days; therefore, public comment must be received on or before April 9, 2012.

ADDRESSES: Please send your comments to the Desk Officer for the Department of the Interior at the Office of Management and Budget, Office of Information and Regulatory Affairs, via facsimile to (202) 395-5806, or email to OIRA_DOCKET@omb.eop.gov. A copy of your comments should also be directed to the Bureau of Reclamation, Attention: Greek Taylor (84-53000), P.O. Box 25007, Denver, CO 80225-0007, or via email to gtaylor@usbr.gov. Please reference OMB Control No. 1006-0003 in your comments.

FOR FURTHER INFORMATION CONTACT: For further information or a copy of the proposed form, contact Greek Taylor at the above address, or at (303) 445-2895.

SUPPLEMENTARY INFORMATION:

I. Abstract

Reclamation is responsible for approximately 6.5 million acres of land which directly support Reclamation's Federal water projects in the 17 western states. Under Title 43 CFR part 429, individuals or entities wanting to use Reclamation's lands, facilities, or waterbodies must apply using Form 7-2540. Examples of such uses are:

—Agricultural uses such as grazing and farming;

—Commercial or organized recreation and sporting activities;

—Other commercial activities such as “guiding and outfitting” and “filming and photography;” and

—Resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

The required 60-day comment period for the Use Authorization Application was initiated by a notice published in the Federal Register on December 2, 2011 (76 FR 75560). No public comments were received.

II. Changes to the Use Authorization Application Form and Its Instructions

We changed the form and its instructions to expand the examples in the instructions of proposed uses for which an applicant may seek permission and changed language to more closely reflect the actual wording of 43 CFR part 429.

We made other changes to the form and the instructions to improve the readability and information-gathering. For instance, we re-organized the instructions and added headings. We moved some of the instructions from the first page to the second page and made more room on the first page for details about the proposed use.

III. Data

OMB Control Number: 1006-0003.

Title: Bureau of Reclamation Use Authorization Application.

Form Number: Form 7-2540.

Frequency: Each time a use authorization is requested.

Respondents: Individuals, corporations, companies, and State and local entities who want to use Reclamation lands, facilities, or waterbodies.

Estimated Annual Total Number of Respondents: 175.

Estimated Number of Responses per Respondent: 1.

Estimated Total Number of Annual Responses: 175.

Estimated Total Annual Burden on Respondents: 350 hours.

Estimated Completion Time per Respondent: 2 hours.

Estimated Application Cost per Respondent: $200, including $100 application fee and estimated $100 for additional analyses.

IV. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. Reclamation will display a valid OMB control number on the forms.

Before including your address, telephone number, email address, or other personal identifying information in your comment, you should be aware that your entire comment (including your personal identifying information) may be made publicly available at any time. While you can ask us in your comment to withhold your personal identifying information from public review, we cannot guarantee that we will be able to do so.

Dated: March 2, 2012.
Roseann Gonzales,
Director, Policy and Administration, Denver Office.

[FR Doc. 2012-5804 Filed 3-8-12; 8:45 am]

BILLING CODE 4310-MN-P